DEPARTMENT OF COMMERCE

National Oceanic and Atmospheric Administration

RIN 0648-XA796

Caribbean Fishery Management Council; Catch Share Panel Meeting

AGENCY: National Marine Fisheries Service (NMFS), National Oceanic and Atmospheric Administration (NOAA), Commerce.

ACTION: Notice of public meetings.

SUMMARY: The Catch Share Panel of the Caribbean Fishery Management Council will hold a public meeting to discuss the issues contained in the enclosed agenda.

Dates and Addresses: The meeting will be held on November 30, 2011, from 7 p.m. to 9 p.m., at the Rincon Beach Hotel, Rd. 115, km 5.5, Añasco, Puerto Rico 00610.

FOR FURTHER INFORMATION CONTACT: Caribbean Fishery Management Council, 268 Muñoz Rivera Avenue, Suite 1108, San Juan, Puerto Rico 00918-2577; telephone: (787) 766-5926.

SUPPLEMENTARY INFORMATION: The Catch Share Panel of the Caribbean Fishery Management Council will hold a public meeting to discuss the following agenda items:

—Call To Order

—Trap Reduction Program Discussion

—Other Issues

Special Accommodations

The meeting is physically accessible to people with disabilities. Simultaneous interpretation will be provided (English-Spanish). For more information or request for sign language interpretation and other auxiliary aids, please contact Mr. Miguel A. Rolón, Executive Director, Caribbean Fishery Management Council, 268 Muñoz Rivera Avenue, Suite 1108, San Juan, Puerto Rico 00918-2577, telephone: (787) 766-5926, at least 5 days prior to the meeting date.

Dated: October 24, 2011.
Tracey L. Thompson,
Acting Director, Office of Sustainable Fisheries, National Marine Fisheries Service.

[FR Doc. 2011-27861 Filed 10-27-11; 8:45 am]

BILLING CODE 3510-22-P